DEPARTMENT OF ENERGY

Federal Energy Regulatory Commission

Combined Notice of Filings

Take notice that the Commission has received the following Natural Gas Pipeline Rate and Refund Report filings:

Filings Instituting Proceedings

Docket Numbers: RP26-233-000.

Applicants: El Paso Natural Gas Company, L.L.C.

Description: § 4(d) Rate Filing: Negotiated Rate Agreement Update (Pioneer Dec 2025-Feb 2026) to be effective 12/1/2025.

Filed Date: 11/25/25.

Accession Number: 20251125-5273.

Comment Date: 5 p.m. ET 12/8/25.

Docket Numbers: RP26-234-000.

Applicants: Colorado Interstate Gas Company, L.L.C.

Description: § 4(d) Rate Filing: CIG Quarterly LUF True-up Filing November 2025 to be effective 1/1/2026.

Filed Date: 11/25/25.

Accession Number: 20251125-5280.

Comment Date: 5 p.m. ET 12/8/25.

Docket Numbers: RP26-235-000.

Applicants: El Paso Natural Gas Company, L.L.C.

Description: § 4(d) Rate Filing: Negotiated Rate Agreement Update (SoCal Dec 2025) to be effective 12/1/2025.

Filed Date: 11/25/25.

Accession Number: 20251125-5282.

Comment Date: 5 p.m. ET 12/8/25.

Docket Numbers: RP26-236-000.

Applicants: El Paso Natural Gas Company, L.L.C.

Description: § 4(d) Rate Filing: Negotiated Rate Agreement Update (Red Willow) to be effective 1/1/2026.

Filed Date: 11/25/25.

Accession Number: 20251125-5294.

Comment Date: 5 p.m. ET 12/8/25.

Docket Numbers: RP26-237-000.

Applicants: Iroquois Gas Transmission System, L.P.

Description: § 4(d) Rate Filing: 11.26.25 Negotiated Rates—Mercuria Energy America, LLC R-7540-02 to be effective 12/1/2025.

Filed Date: 11/26/25.

Accession Number: 20251126-5110.

Comment Date: 5 p.m. ET 12/8/25.

Docket Numbers: RP26-238-000.

Applicants: Southern Star Central Gas Pipeline, Inc.

Description: Compliance filing: Annual Operational Flow Order Report 2025 to be effective N/A.

Filed Date: 11/26/25.

Accession Number: 20251126-5137.

Comment Date: 5 p.m. ET 12/8/25.

Docket Numbers: RP26-239-000.

Applicants: Southern Star Central Gas Pipeline, Inc.

Description: Compliance filing: Annual Cash-Out Activity Report 2025 to be effective N/A.

Filed Date: 11/26/25.

Accession Number: 20251126-5140.

Comment Date: 5 p.m. ET 12/8/25.

Docket Numbers: RP26-240-000.

Applicants: Iroquois Gas Transmission System, L.P.

Description: § 4(d) Rate Filing: 11.26.25 Negotiated Rates—Vitol Inc. R-7495-29 to be effective 12/1/2025.

Filed Date: 11/26/25.

Accession Number: 20251126-5164.

Comment Date: 5 p.m. ET 12/8/25.

Docket Numbers: RP26-241-000.

Applicants: Iroquois Gas Transmission System, L.P.

Description: § 4(d) Rate Filing: 11.26.25 Negotiated Rates—Vitol Inc. R-7495-30 to be effective 12/1/2025.

Filed Date: 11/26/25.

Accession Number: 20251126-5165.

Comment Date: 5 p.m. ET 12/8/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: November 26, 2025.
Carlos D. Clay,
Deputy Secretary.

[FR Doc. 2025-21759 Filed 12-1-25; 8:45 am]

BILLING CODE 6717-01-P